DEPARTMENT OF COMMERCE

International Trade Administration

Environmental Technologies Trade Advisory Committee (ETTAC); Meeting

AGENCY: International Trade Administration, Department of Commerce.

ACTION: Notice of open meeting.

Date: May 10, 2001.

Time: 9 a.m. to 3:30 p.m.

Place: Room 3407, U.S. Department of Commerce, 14th Street and Constitution Avenue, NW., Washington, DC 20230.

SUMMARY: The Environmental Technologies Trade Advisory Committee will hold a plenary meeting on May 10, 2001, in Room 3407 of the U.S. Department of Commerce.

During the morning, the ETTAC will hear reports on the Industry Consultations Program, policy issues for environmental technologies companies, and an update on improvements being made to the Global Technology Network. ETTAC subcommittees will identify priorities and work plans. The subcommittees will report to the full committee during the afternoon. Subcommittees include: Water; Energy/Air; Market Access; Government Resources.

ETTAC is mandated by Public Law 103-392. It was created to advise the U.S. government on environmental trade policies and programs, and to help it to focus its resources on increasing the exports of the U.S. environmental industry. The ETTAC operates as an advisory committee to the Secretary of Commerce and the interagency Environmental Trade Working Group (ETWG) of the Trade Promotion Coordinating Committee (TPCC). The ETTAC was originally chartered in May of 1994. It was most recently rechartered until May 30, 2002.

For further information phone Jane Siegel, Office of Technologies Industries, (ETI), U.S. Department of Commerce at (202) 482-5225. This meeting is physically accessible to people with disabilities. Requests for sign language interpretation or other auxiliary aids should be directed to ETI.

Dated: April 16, 2001.
Carlos F. Montoulieu,
Acting Deputy Assistant Secretary.

[FR Doc. 01-9756 Filed 4-19-01; 8:45 am]

BILLING CODE 3510-DR-P